DEPARTMENT OF THE INTERIOR

National Park Service

[NPS-WASO-NAGPRA-NPS0028226; PPWOCRADN0-PCU00RP14.R50000]

Notice of Inventory Completion: Michigan State Police, Lansing, MI

AGENCY: National Park Service, Interior.

ACTION: Notice.

SUMMARY: The Michigan State Police (MSP) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Michigan State Police. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Michigan State Police at the address in this notice by August 8, 2019.

ADDRESSES: Hanna Friedlander, Human Remains Analyst, Michigan State Police Special Investigation Division—Missing Persons Unit, 7150 Harris Drive, P.O. Box 30634, Lansing, MI 48821, telephone (517) 242-5731, email friedlanderh@michigan.gov.

SUPPLEMENTARY INFORMATION: Notice is here given in accordance with the Native American Graves Protection and Repatriation Act (NAGPRA), 25 U.S.C. 3003, of the completion of an inventory of human remains under the control of the Michigan State Police, Lansing, MI. The human remains were removed from the City of Cheboygan, in Cheboygan County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Michigan State Police professional staff in consultation with representatives of the Little Traverse Bay Bands of Odawa Indians, Michigan; Saginaw Chippewa Indian Tribe of Michigan; and the Sault Ste. Marie Tribe of Chippewa Indians, Michigan.

History and Description of the Remains

On July 15, 2014, human remains representing, at minimum, one individual were removed from their resting spot in Cheboygan, MI. MSP Officer Gaylord was dispatched to a private residence in Cheboygan, MI, following the report of a possible bone found laying between the driveway and the shoulder of the roadway. Upon arrival, the officer examined the human remains and sent a photo to the Mclaren Hospital, which determined that it was human. The bone is approximately 12 inches long with a cut/slot in the ball/shoulder end and a hole in the elbow end. The bone was transferred to Dr. Todd Fenton and his then student Caitlin Vogelsberg for analysis. They concluded the bone—a humerus—was prehistoric Native American in origin, based on FORDISC 3.1 (Jantz and Ousley 2005) and a five-way discriminant function analysis algorithm. The human remains are probably female, based on epicondylar breadth, maximum length, and vertical head diameter (Dittrick and Suchey 1986), and belong to an adult over the age of 15, based on epiphyseal fusion (Baker, Dupras, and Tocheri 2005). There is noted slight osteoarthritic lipping on the humeral head border (Ortner 2003). The stature was calculated on FORDISC as well, noting the individual to be 60.9-67.0 inches tall. Following analysis, the human remains (MSP073-000-3548-14) were returned to MSP custody. No known individuals were identified. No associated funerary objects are present.

Determinations Made by the Michigan State Police

Officials of the Michigan State Police have determined that:

• Pursuant to 25 U.S.C. 3001(9), the human remains described in this notice are Native American based on FORDSIC 3.1 (Jantz and Ousley 2005) software, which uses a five-way discriminant function analysis algorithm.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Traverse Bay Bands of Odawa Indians, Michigan; Minnesota Chippewa Tribe, Minnesota (Six component reservations: Bois Forte Band (Nett Lake); Fond du Lac Band; Grand Portage Band; Leech Lake Band; Mille Lacs Band; White Earth Band); Ottawa Tribe of Oklahoma; Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota (hereafter referred to as “The Tribes”).

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Hanna Friedlander, Michigan State Police Special Investigation Division—Missing Persons Unit, 7150 Harris Drive, P.O. Box 30634, Lansing, MI 48821, telephone (517) 242-5731, email friedlanderh@michigan.gov, by August 8, 2019. After that date, if no additional requestors have come forward, transfer of control of the human remains to The Tribes may proceed.

The Michigan State Police is responsible for notifying The Tribes that this notice has been published.

Dated: June 14, 2019.
Melanie O'Brien,
Manager, National NAGPRA Program.

[FR Doc. 2019-14566 Filed 7-8-19; 8:45 am]

BILLING CODE 4312-52-P